DEPARTMENT OF COMMERCE

International Trade Administration

[A-570-909]

Certain Steel Nails From the People's Republic of China; 2020-2021: Preliminary Results of Antidumping Duty Administrative Review and Preliminary Determination of No Shipments; 2020-2021

AGENCY: Enforcement and Compliance, International Trade Administration, Department of Commerce.

SUMMARY: The Department of Commerce (Commerce) preliminarily determines that eleven companies subject to this review had no shipments of certain steel nails (nails) from the People's Republic of China (China) during the period of review (POR) August 1, 2020, through July 31, 2021. Commerce also preliminarily determines that no company subject to this review established its eligibility for a separate rate and all entries of subject merchandise during the POR will be subject to the China-wide entity rate. We invite interested parties to comment on these preliminary results.

DATES: Applicable May 9, 2022.

FOR FURTHER INFORMATION CONTACT: William Horn or Zachariah Hall, AD/CVD Operations, Office VIII, Enforcement and Compliance, International Trade Administration, U.S. Department of Commerce, 1401 Constitution Avenue NW, Washington, DC 20230; telephone: (202) 482-4868 or (202) 482-6261, respectively.

SUPPLEMENTARY INFORMATION:

Background

On August 1, 2008, Commerce published the antidumping duty order on nails from China.¹ On August 2, 2021, we published a notice of opportunity for interested parties to request that Commerce conduct an administrative review of the Order.² On August 31, 2021, Commerce received requests for an administrative review from Mid Continent Steel & Wire, Inc. (the petitioner), and from Tianjin Jinchi Metal Products Co., Ltd. (Tianjin Jinchi), Shanghai Yueda Nails Industry Co. (Shanghai Yueda), and Tianjin Jinghai County Hongli Industry & Business Co. (Tianjin Jinghai) (collectively, foreign interested parties).³ Commerce published the initiation of this administrative review on October 7, 2021.⁴ The POR is August 1, 2020, through July 31, 2021. After publication of the Initiation Notice, Shanghai Yueda withdrew its participation in this administrative review.⁵ No company submitted a separate rate application or certification to establish its eligibility for a separate rate.

¹ See Notice of Antidumping Duty Order: Certain Steel Nails from the People's Republic of China, 73 FR 44961 (August 1, 2008) (Order).

² See Antidumping or Countervailing Duty Order, Finding, or Suspended Investigation; Opportunity to Request Administrative Review, 86 FR 41436 (August 2, 2021).

³ See Petitioner's Letter, “Certain Steel Nails from China—Request for Administrative Review,” dated August 31, 2021, at 1-2; see also Foreign Interested Parties' Letter, “Request for Administrative Review of the Antidumping Duty Order on Certain Steel Nails from the People's Republic of China, A-570-909 (POR 8/1/20-7/31/21),” dated August 31, 2021, at 1-2.

⁴ See Initiation of Antidumping and Countervailing Duty Administrative Reviews, 86 FR 55811 (October 7, 2021) (Initiation Notice).

⁵ See Shanghai Yueda's Letter, “Shanghai Yueda Notice of Withdrawal from the Review: Thirteenth Administrative Review of the Antidumping Duty Order on Certain Steel Nails from the People's Republic of China (A-570-909),” dated November 8, 2021.

For a complete description of the events that followed the initiation of this review, see the Preliminary Decision Memorandum.⁶ A list of topics included in the Preliminary Decision Memorandum is included as Appendix I to this notice.

⁶ See Memorandum, “Decision Memorandum for the Preliminary Results of the Antidumping Duty Administrative Review: Certain Steel Nails from the People's Republic of China; 2020-2021,” dated concurrently with, and hereby adopted by, this notice (Preliminary Decision Memorandum).

The Preliminary Decision Memorandum is a public document and is on file electronically via the Enforcement and Compliance's Antidumping and Countervailing Duty Centralized Electronic Service System (ACCESS). ACCESS is available to registered users at http://access.trade.gov. In addition, a complete version of the Preliminary Decision Memorandum can be accessed directly on the internet at https://access.trade.gov/public/FRNoticesListLayout.aspx.

Scope of the Order

The products covered by the Order are nails from China. A full description of the scope of the Order is contained in the Preliminary Decision Memorandum.

Preliminary Determination of No Shipments

Thirteen companies submitted no shipment certifications. Based on our analysis of U.S. Customs and Border Protection (CBP) information and information provided by companies subject to this review, Commerce preliminarily determines that 11 companies had no shipments of subject merchandise during the POR.⁷ Additionally, two of these companies, Dezhou Hualude Hardware Products Co., Ltd. (Dezhou Hualude) and Tianjin Zhonglian Metals Ware Co., Ltd. (Tianjin Zhonglian) failed to support their claim of no shipments during the POR. For additional information regarding this determination, see the Preliminary Decision Memorandum.

⁷ The companies that we preliminarily determine had no shipments during the POR are: Hebei Minmetals Co., Ltd.; Nanjing Caiqing Hardware Co., Ltd.; Nanjing Yuechang Hardware Co., Ltd.; Shandong Qingyun Hongyi Hardware Products Co., Ltd.; Shanxi Hairui Trade Co., Ltd.; Shanxi Pioneer Hardware Industrial Co., Ltd.; S-Mart (Tianjin) Technology Development Co., Ltd.; Suntec Industries Co., Ltd.; Tianjin Jinchi Metal Products Co., Ltd.; Tianjin Jinghai County Hongli Industry & Business Co., Ltd.; and Xi'an Metals & Minerals Import & Export Co., Ltd.

Consistent with our practice, we are not rescinding this review with respect to these companies but, instead, intend to complete the review and issue appropriate instructions to CBP based on the final results of the review.⁸

⁸ See Non-Market Economy Antidumping Proceedings: Assessment of Antidumping Duties, 76 FR 65694, 65694-95 (October 24, 2011).

China-Wide Entity

In accordance with Commerce's policy, the China-wide entity will not be under review unless a party specifically requests, or Commerce self-initiates, a review of the China-wide entity.⁹ Because no party requested a review of the China-wide entity, the China-wide entity is not under review and the weighted-average dumping margin for the China-wide entity is not subject to change (i.e., 118.04 percent).¹⁰

⁹ See Antidumping Proceedings: Announcement of Change in Department Practice for Respondent Selection in Antidumping Duty Proceedings and Conditional Review of the Nonmarket Economy Entity in NME Antidumping Duty Proceedings, 78 FR 65963 (November 4, 2013).

¹⁰ See Order.

Aside from the 11 companies which we preliminarily find made no shipments during the POR, Commerce considers all other companies for which a review was requested, and which did not demonstrate their separate rate eligibility to be part of the China-wide entity.¹¹

¹¹ See Initiation Notice (“All firms listed below that wish to qualify for separate rate status in the administrative reviews involving NME countries must complete, as appropriate, either a separate rate application or certification, as described below.”).

Preliminary Results

Commerce finds that no company subject to this administrative review has established its eligibility for a separate rate. Because 15 companies did not submit separate rate applications or certifications, or no-shipment certifications, and two companies which submitted no-shipment certifications failed to respond to the results of our no-shipment inquiry to demonstrate they had no shipments of subject merchandise to the United States during the POR, we preliminarily determine that these 17 companies are not eligible for a separate rate and are part of the China-wide entity. See Appendix II of this notice.

Disclosure and Public Comment

Normally, Commerce discloses the calculations used in its analysis to parties in a review within five days of the date of publication of the notice of preliminary results, in accordance with 19 CFR 351.224(b). However, in this case, there are no calculations on the record to disclose.

Interested parties may submit case briefs no later than 30 days after the date of publication of these preliminary results of review.¹² Rebuttal briefs may be filed no later than seven days after the written comments are filed, and all rebuttal comments must be limited to comments raised in the case briefs.¹³ Pursuant to 19 CFR 351.309(c)(2), parties submitting case briefs or rebuttal briefs in this review are encouraged to submit with each argument: (1) A statement of the issue; (2) a brief summary of the argument; and (3) a table of authorities.

¹² See 19 CFR 351.309(c).

¹³ See 19 CFR 351.309(d); see also Temporary Rule Modifying AD/CVD Service Requirements Due to COVID-19, 85 FR 17006 (March 26, 2020) (“To provide adequate time for release of case briefs via ACCESS, E&C intends to schedule the due date for all rebuttal briefs to be 7 days after case briefs are filed (while these modifications are in effect).”).

Pursuant to 19 CFR 351.310(c), interested parties wishing to request a hearing, limited to issues raised in the case and rebuttal briefs, must submit a request to the Assistant Secretary for Enforcement and Compliance, U.S. Department of Commerce, within 30 days after the date of publication of this notice. Hearing requests should contain the party's name, address, telephone number, the number of participants, and a list of the issues to be discussed. If a request for a hearing is made, parties will be notified of the date and time for the hearing to be held.¹⁴ Parties should confirm by telephone the date, time, and location of the hearing two days before the scheduled date. Parties are reminded that all briefs and hearing requests must be filed electronically using ACCESS and received successfully in their entirety by 5 p.m. Eastern Time on the due date. Note that Commerce has temporarily modified certain of its requirements for serving documents containing business proprietary information, until further notice.¹⁵

¹⁴ See 19 CFR 351.310(d).

¹⁵ See Temporary Rule Modifying AD/CVD Service Requirements Due to COVID-19; Extension of Effective Period, 85 FR 41363 (July 10, 2020) (Temporary Rule).

Unless otherwise extended, we intend to issue the final results of this review, which will include the results of our analysis of the issues raised in any briefs, within 120 days of publication of these preliminary results in the Federal Register, pursuant to section 751(a)(3)(A) of the Tariff Act of 1930, as amended (the Act), and 19 CFR 351.213(h).

Assessment Rates

Upon issuance of the final results, Commerce will determine, and CBP shall assess, antidumping duties on all appropriate entries covered by this review, in accordance with 19 CFR 351.212(b)(1). If the preliminary results are unchanged for the final results, we will instruct CBP to apply an ad valorem assessment rate of 118.04 percent to all entries of subject merchandise during the POR which were exported by 17 companies in the China-wide entity. If Commerce continues to make a no-shipment finding in the final results for each of the 11 companies referenced in the “Preliminary Determination of No Shipments” section above, any suspended entries of subject merchandise associated with those companies will also be liquidated at the China-wide rate.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided for by section 751(a)(2)(C) of the Act: (1) For the companies identified above that have no shipments, the cash deposit rate will continue to be the rate previously assessed for each individual exporter of subject merchandise; (2) for previously investigated or reviewed Chinese and non-Chinese exporters of subject merchandise for which a review was not requested and that received a separate rate based on a completed prior segment of this proceeding, the cash deposit rate will continue to be that existing cash deposit rate published for the most recently completed period; (3) for all Chinese exporters of subject merchandise that have not been found to be entitled to a separate rate, the cash deposit rate will be 118.04 percent, the weighted-average dumping margin for the China-wide entity from the less-than-fair value investigation; and (4) for all non-Chinese exporters of subject merchandise which have not received their own separate rate, the cash deposit rate will be the rate applicable to the Chinese exporter that supplied that non-Chinese exporter. These cash deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing the preliminary results of this administrative review in accordance with sections 751(a)(l) and 777(i)(l) of the Act, and 19 CFR 351.213 and 351.221(b)(4).

Dated: May 3, 2022.
Lisa W. Wang,
Assistant Secretary for Enforcement and Compliance.

Appendix I

List of Topics Discussed in the Preliminary Decision Memorandum

I. Summary

II. Background

III. Scope of the Order

IV. Preliminary Determination of No Shipments

V. Discussion of the Methodology

VI. Recommendation

Appendix II

Companies Preliminarily Determined To Be Part of the China-Wide Entity

1. Dezhou Hualude Hardware Products Co., Ltd.

2. Huanghua Jinhai Hardware Products Co., Ltd.

3. Huanghua Xionghua Hardware Products Co., Ltd.

4. Jining Dragon Fasteners Co., Ltd.

5. Jining Huarong Hardware Products Co., Ltd.

6. Jining Yonggu Metal Products Co., Ltd.

7. SDC International Australia Pty. Ltd.

8. Shandong Oriental Cherry Hardware Group Heze Products Co., Ltd.

9. Shandong Oriental Cherry Hardware Import and Export Co., Ltd.

10. Shanghai Curvet Hardware Products Co., Ltd.

11. Shanghai Yueda Nails Industry Co., Ltd., a.k.a. Shanghai Yueda Nails Co., Ltd.

12. Shanxi Tianli Industries Co., Ltd.

13. Tianjin Jishili Hardware Products Co., Ltd.

14. Tianjin Universal Machinery Imp. & Exp. Corporation

15. Tianjin Zhitong Metal Products Co., Ltd.

16. Tianjin Zhonglian Metals Ware Co., Ltd.

17. Zhejiang Gem-Chun Hardware Accessory Co., Ltd.

[FR Doc. 2022-09927 Filed 5-6-22; 8:45 am]

BILLING CODE 3510-DS-P